DEPARTMENT OF TRANSPORTATION

Federal Railroad Administration

Notice of Availability of Answers to Frequently Asked Questions Regarding Buy America & FRA's High-Speed Intercity Passenger Rail Program

AGENCY: Federal Railroad Administration (FRA), United States Department of Transportation (DOT).

ACTION: Notice of Availability.

SUMMARY: FRA announces the availability of Answers to Frequently Asked Questions regarding Buy America and FRA's High Speed Intercity Passenger Rail Program. The Answers to Frequently Asked Questions can be found on FRA's Web site at http://www.fra.dot.gov/Pages/11.shtml.

DATES: Written comments on FRA's Buy America Answers to Frequently Asked Questions may be provided to the FRA on or before October 18, 2010.

ADDRESSES: Please submit your comments by one of the following means, identifying your submissions by docket number FRA-2010-0147. All electronic submissions must be made to the U.S. Government electronic site at http://www.regulations.gov. Commenters should follow the instructions below for mailed and hand-delivered comments.

(1) Web Site: http://www.regulations.gov. Follow the instructions for submitting comments on the U.S. Government electronic docket site;

(2) Fax: (202) 493-2251;

(3) Mail: U.S. Department of Transportation, 1200 New Jersey Avenue, SE., Docket Operations, M-30, Room W12-140, Washington, DC, 20590-0001; or

(4) Hand Delivery: Room W12-140 on the first floor of the West Building, 1200 New Jersey Avenue, SE., Washington, DC, 20590, between 9 a.m. and 5 p.m., Monday through Friday, except Federal holidays.

Instructions: All submissions must make reference to the “Federal Railroad Administration” and include docket number FRA-2010-0147. Due to security procedures in effect since October 2001, mail received through the U.S. Postal Service may be subject to delays. Parties making submissions responsive to this notice should consider using an express mail firm to ensure the prompt filing of any submissions not filed electronically or by hand. Note that all submissions received, including any personal information therein, will be posted without change or alteration to http://www.regulations.gov. For more information, you may review DOT's complete Privacy Act Statement in the Federal Register published on April 11, 2000 (65 FR 19477), or visit http://www.regulations.gov.

FOR FURTHER INFORMATION CONTACT: For questions about this notice, please contact Ms. Linda Martin, Attorney-Advisor, FRA Office of Chief Counsel, (202) 493-6062 or via e-mail at Linda.Martin@dot.gov.

SUPPLEMENTARY INFORMATION: The Passenger Rail Investment and Improvement Act of 2008 (PRIIA) (Division B of Pub. L. 111-432) authorized the appropriation of funds to establish several new passenger rail grant programs, including capital investment grants to support intercity passenger rail service (§ 301), high-speed corridor development (§ 501), and congestion grants (§ 302). FRA consolidated these and other closely related programs into the High-Speed Intercity Passenger Rail (HSIPR) program, as detailed in FRA's High-Speed Intercity Passenger Rail (HSIPR) Interim Guidance (74 FR 29900 (June 23, 2009)) and as further detailed in a second set of HSIPR interim program guidance governing the distribution of fiscal year 2010 funding (75 FR 38344 and 38365 (July 1, 2010). Spending authorized under PRIIA is subject to the Buy America provision of 49 U.S.C. 24405(a).

In 2009, President Obama, together with Vice President Biden and Secretary of Transportation LaHood, articulated a new “Vision for High-Speed Rail in America” (available on FRA's Web site). The HSIPR program is a component of that vision, as is the American Recovery and Reinvestment Act of 2009 (ARRA), which appropriated funds for PRIIA-authorized grant programs. The vision includes a goal to bolster American passenger rail expertise and resources. The Buy America requirements reinforce this goal, and aid in encouraging a domestic market in the rail sector. PRIAA authorized FRA to operate the grant programs under guidance, prior to the issuance of final regulations. FRA is beginning the process of implementing regulations to govern the application of the Buy America statute to all PRIIA-authorized spending as part of the HSIPR program. As required, the proposed regulation will be published in the Federal Register for public comment under RIN 2130-AC23 and docket number FRA-2010-0147. In the interim, to aid grantees who must immediately apply Section 24405(a) to funds granted them by FRA, FRA is providing Answers to Frequently Asked Questions describing its procedures for applying the Buy America provision in the HSIPR program on its Web site at http://www.fra.dot.gov/Pages/11.shtml.

Issued in Washington, DC, on September 22, 2010.
Mark E. Yachmetz,
Associate Administrator for Railroad Policy and Development, Federal Railroad Administration.

[FR Doc. 2010-24126 Filed 9-24-10; 8:45 am]

BILLING CODE 4910-06-P